DEPARTMENT OF TRANSPORTATION

Federal Aviation Administration

14 CFR Part 71

[Docket No. FAA-2005-21381; Airspace Docket No. 05-ASW-2]

RIN 2120-AA66

Establishment of Area Navigation Routes; Southwestern and South Central United States

AGENCY: Federal Aviation Administration (FAA), DOT.

ACTION: Final rule; correction.

SUMMARY: This action corrects an error in the legal description of an Area Navigation (RNAV) route listed in a final rule published in the Federal Register on December 15, 2005 (70 FR 74197), Airspace Docket No. 05-ASW-2.

EFFECTIVE DATE: 0901 UTC, February 16, 2006.

FOR FURTHER INFORMATION CONTACT: Steve Rohring, Airspace and Rules, Office of System Operations Airspace and AIM, Federal Aviation Administration, 800 Independence Avenue, SW., Washington, DC 20591; telephone: (202) 267-8783.

SUPPLEMENTARY INFORMATION:

History

On December 15, 2005, a final rule for Airspace Docket No. 05-ASW-2 was published in the Federal Register (70 FR 74197). This rule established three RNAV routes (Q-20, Q-22, and Q-24) over the Southwestern and South Central United States. In the description for Q-20, the latitude for the HONDS fix was inadvertently listed as lat. 33°33′60″ N. rather than lat. 33°34′00″ N. This action corrects that error.

Correction to Final Rule

Accordingly, pursuant to the authority delegated to me, the legal description for Q-20 as published in the Federal Register on December 15, 2005 (70 FR 74197), and incorporated by reference in 14 CFR 71.1, are corrected as follows:

PART 71—[AMENDED]

§ 71.1 [Amended]

* * * * *

Q-20 CNX to JCT [Corrected]
CNX | VORTAC | (lat. 34°22′01″ N., long. 105°40′41″ W.)
HONDS | FIX | (lat. 33°34′00″ N., long. 104°51′12″ W.)
UNNOS | WP | (lat. 32°57′00″ N., long. 103°56′00″ W.)
FUSCO | WP | (lat. 31°11′02″ N., long. 101°19′30″ W.)
JCT | VORTAC | (lat. 30°35′53″ N., long. 099°49′03″ W.)

* * * * *

Issued in Washington, DC, on December 19, 2005.
Edith V. Parish,
Manager, Airspace and Rules.

[FR Doc. 05-24432 Filed 12-22-05; 8:45 am]

BILLING CODE 4910-13-P